DEPARTMENT OF THE INTERIOR

Bureau of Land Management

[CA-180]

Meeting of the Central California Resource Advisory Council

ACTION: Notice of public meeting.

SUMMARY: In accordance with the Federal Land Policy and Management Act (FLPMA) and the Federal Advisory Committee Act of 1972 (FACA), the U.S. Department of the Interior, Bureau of Land Management (BLM) Central California Resource Advisory Council will meet as indicated below.

DATES: The meeting will be held Friday and Saturday, March 11 and 12, 2005. On Friday, the RAC will meet at the University of California Lindcove Research & Extension Center, 22963 Carson Avenue, Exeter, California 93221, from 8 a.m. to 5 p.m. On Saturday, the RAC will convene at the BLM's Atwell Island office, 3945 Road 38, Alpaugh, California 93201 from 8 a.m. to 2 p.m. There will be a public comment period on Friday, March 11 from 3 p.m. until 4 p.m.

FOR FURTHER INFORMATION CONTACT: Deane Swickard, Field Manager, 63 Natoma Street, Folsom, CA 95630, telephone (916) 985-4474.

SUPPLEMENTARY INFORMATION: The twelve-member Central California Resource Advisory Council advises the Secretary of the Interior, through the Bureau of Land Management, on a variety of public land issues associated with public land management in Central California. At this meeting, agenda topics include an update on the Carrizo Management Plan, and the concept and operation of Atwell Island. The RAC will also hear status reports from the Bakersfield, Bishop, Folsom, and Hollister Field Office Managers.

The meeting is open to the public. The public may present written comments to the Council, and time will be allocated for hearing public comments. Depending on the number of persons wishing to comment and the time available, the time for individual oral comments may be limited. Individuals who plan to attend and need special assistance such as sign language interpretation or other reasonable accommodations should contact the BLM as indicated above.

Charge Code: CA 180-1430-HN.

Dated: January 26, 2005.
D.K. Swickard,
Folsom Field Office Manager.

[FR Doc. 05-2629 Filed 2-14-05; 8:45 am]

BILLING CODE 4310-40-P